DEPARTMENT OF EDUCATION

National Educational Research Policy and Priorities Board; Quarterly Meeting

AGENCY: National Educational Research Policy and Priorities Board; Education.

ACTION: Notice of meeting.

SUMMARY: This notice sets forth the schedule and proposed agenda of a forthcoming quarterly meeting of the National Educational Research Policy and Priorities Board. Notice of this meeting is required under Section 10(a)(2) of the Federal Advisory Committee Act. This document is intended to notify the general public of their opportunity to attend the meeting.

DATES: June 16, 2000.

TIME: 9 a.m. to 3 p.m.

LOCATION: Room 100, 80 F St., NW, Washington, D.C. 20208-7564.

FOR FURTHER INFORMATION CONTACT: Thelma Leenhouts, Designated Federal Official, National Educational Research Policy and Priorities Board, Washington, D.C. 20208-7564. Tel.: (202) 219-2065; fax: (202) 219-1528; e-mail: Thelma_Leenhouts@ed.gov, or nerpph@ed.gov. The main telephone number for the Board is (202) 208-0692.

SUPPLEMENTARY INFORMATION: The National Educational Research Policy and Priorities Board is authorized by Section 921 of the Educational Research, Development, Dissemination, and Improvement Act of 1994. The Board works collaboratively with the Assistant Secretary for the Office of Educational Research and Improvement (OERI) to forge a national consensus with respect to a long-term agenda for educational research, development, and dissemination, and to provide advice and assistance to the Assistant Secretary in administering the duties of the Office.

The meeting is open to the public. Individuals who will need accommodations for a disability in order to attend the meeting (i.e., interpreting services, assistive listening devices, materials in alternative format) should notify Thelma Leenhouts at (202) 219-2065 by no later than June 9. We will attempt to meet requests after this date, but cannot guarantee availability of the requested accommodation. The meeting site is accessible to individuals with disabilities.

The Board will hear reports from the Assistant Secretary for OERI and from the chair and executive director. The Board will review revised policy recommendations for a proposed report to Congress and review the progress of a commissioned study of the implementation of the standards for the designation of exemplary and promising programs.

A final agenda will be available from the Board office of June 9, and will be posted on the Board's web site, http://www.ed.gov/offices/OERI/NERPPB/.

Records are kept of all Board proceedings and are available for public inspection at the office of the National Educational Research Policy and Priorities Board, Suite 100, 80 F St., NW, Washington, D.C. 20208-7564.

Dated: May 10, 2000.
Eve M. Bither,
Executive Director.

[FR Doc. 00-12200 Filed 5-15-00; 8:45 am]

BILLING CODE 4000-01-M